DEPARTMENT OF ENERGY

National Quantum Initiative Advisory Committee (NQIAC)

AGENCY: Department of Energy.

ACTION: Notice of open meeting.

SUMMARY: This notice announces an open virtual meeting of the National Quantum Initiative Advisory Committee (NQIAC). The Federal Advisory Committee Act (FACA) requires that public notice of these meetings be announced in the Federal Register.

DATES: Tuesday, August 6, 2024; 1 p.m.-3 p.m. EDT.

ADDRESSES: Information to participate remotely will be posted on the NQIAC website closer to the meeting at: www.quantum.gov/about/nqiac/.

FOR FURTHER INFORMATION CONTACT: Tanner Crowder, Designated Federal Officer, NQIAC, email: NQIAC@quantum.gov; telephone: (202) 456-6028.

SUPPLEMENTARY INFORMATION: Purpose of the Committee: The NQIAC has been established to advise the President, the National Science and Technology Council (NSTC) Subcommittee on Quantum Information Science (SCQIS), and the NSTC Subcommittee on Economic and Security Implications of Quantum Science (ESIX) on the National Initiative Act (NQI) Program, and on trends and developments in quantum information science and technology, in accordance with the National Quantum Initiative Act (Pub. L. 115-368) and Executive Order 14073.

Tentative Agenda

• Deliberate and Approval Findings and Recommendations on Quantum Networking

Public Participation: The meeting is open to the public. It is the policy of the NQIAC to accept written public comments no longer than 5 pages and to accommodate oral public comments, whenever possible. The NQIAC expects that public statements presented at its meetings will not be repetitive of previously submitted oral or written statements.

The public comment period for this meeting will take place on August 6, 2024, at a time specified in the meeting agenda. This public comment period is designed only for substantive commentary on NQIAC's work, not for business marketing purposes. The Chairperson(s) of the Committee will conduct the meeting to facilitate the orderly conduct of business.

This notice is being published less than 15 days prior to the meeting due to scheduling difficulties and members' availability.

Oral Comments: To be considered for the public speaker list at the meeting, interested parties should register to speak at NQIAC@quantum.gov, no later than 12 p.m. Eastern Daylight Time on July 31, 2024. To accommodate as many speakers as possible, the time for public comments will be limited to three (3) minutes per person, with a total public comment period of up to 15 minutes. If more speakers register than there is space available on the agenda, NQIAC will select speakers on a first-come, first-served basis from those who applied. Those not able to present oral comments may always file written comments with the committee.

Written Comments: Although written comments are accepted continuously, written comments relevant to the subjects of the meeting should be submitted to NQIAC@quantum.gov no later than 12 p.m. Eastern Time on July 31, 2024, so that the comments may be made available to the NQIAC members prior to this meeting for their consideration prior to the meeting.

NQIAC operates under the provisions of FACA, all public comments and related materials will be treated as public documents and will be made available for public inspection, including being posted on the NQIAC website at: www.quantum.gov/about/nqiac/.

Minutes: Minutes will be available on the National Quantum Initiative Advisory Committee website at: www.quantum.gov/about/nqiac/.

Signing Authority: This document of the Department of Energy was signed on July 18, 2024, by David Borak, Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 18, 2024.
Treena V. Garrett,
Federal Register Liaison Officer, U.S. Department of Energy.

[FR Doc. 2024-16168 Filed 7-22-24; 8:45 am]

BILLING CODE 6450-01-P